DEPARTMENT OF COMMERCE

International Trade Administration

[C-570-955]

Certain Magnesia Carbon Bricks From the People's Republic of China: Final Results of Expedited First Sunset Review of the Countervailing Duty Order

AGENCY: Enforcement and Compliance, International Trade Administration, Department of Commerce.

SUMMARY: The Department of Commerce (Department) finds that revocation of the countervailing duty (CVD) order on certain magnesia carbon bricks (MCBs) from the People's Republic of China (PRC) would be likely to lead to continuation or recurrence of a countervailable subsidy at the levels indicated in the “Final Results of Sunset Review” section of this notice.

DATES: Effective Date: December 7, 2015.

FOR FURTHER INFORMATION CONTACT: Jacqueline Arrowsmith, Office VII, AD/CVD Operations, Enforcement and Compliance, International Trade Administration, U.S. Department of Commerce, 14th Street and Constitution Avenue NW., Washington, DC 20230; telephone (202) 482-5255.

SUPPLEMENTARY INFORMATION:

Background

On September 21, 2010, the Department published the CVD Order on MCBs from the PRC.¹ On August 3, 2015, the Department published a notice of initiation of the first sunset review of the CVD Order on MCBs from the PRC pursuant to section 751(c)(2) of the Tariff Act of 1930, as amended (the Act).² On August 18, 2015, the Magnesia Carbon Bricks Fair Trade Committee (the Committee) filed a notice of intent to participate in the review.³ The Committee claimed interested party status pursuant to section 771(9)(C) of the Act.

¹ See Certain Magnesia Carbon Bricks from the People's Republic of China: Countervailing Duty Order, 75 FR 57442 (September 21, 2010) (CVD Order).

² See Initiation of Five-Year “Sunset” Reviews, 80 FR 45945 (August 3, 2015).

³ See Letter to the Department, “First Five-Year (“Sunset”) Review of Countervailing Duty Order on Magnesia Carbon Bricks From The People's Republic of China: Domestic Industry's Notice of Intent to Participate In Sunset Review,” (August 18, 2015). The Committee is an ad hoc association of three U.S. producers of MCBs: Resco Products, Inc., Magnesita Refractories Company, and Harbison Walker International, Inc.

The Department received an adequate substantive response from the domestic industry within the 30-day deadline specified in 19 CFR 351.218(d)(3)(i). The Department did not receive a response from the Government of the PRC (GOC) or any respondent interested party to the proceeding. As a result, pursuant to section 751(c)(3)(B) of the Act and 19 CFR 351.218(e)(l)(ii)(B)(2) and (C)(2), the Department conducted an expedited review of this CVD Order on MCBs.

Scope of the Order

The merchandise subject to this CVD Order includes certain chemically-bonded (resin or pitch), magnesia carbon bricks. Certain magnesia carbon bricks that are the subject of this order are currently classifiable under subheadings 6902.10.1000, 6902.10.5000, 6815.91.0000, 6815.99.2000 and 6815.99.4000 of the Harmonized Tariff Schedule of the United States (HTSUS). While HTSUS subheadings are provided for convenience and customs purposes, the written description is dispositive. The Issues and Decision Memorandum, which is hereby adopted by this notice, provides a full description of the scope of the order.⁴

⁴ See Department Memorandum, “Issues and Decision Memorandum for the Final Results of the Expedited First Sunset Review of the Countervailing Duty Order on Certain Magnesia Carbon Bricks from the People's Republic of China,” dated concurrently with this notice.

Analysis of Comments Received

All issues raised in this review are addressed in the Issues and Decision Memorandum. The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed at http://enforcement.trade.gov/frn/. The signed Issues and Decision Memorandum and the electronic version of the Issues and Decision Memorandum are identical in content. The issues discussed in the Issues and Decision Memorandum include the likelihood of continuation or recurrence of a countervailable subsidy, the net countervailable subsidy rate likely to prevail if the CVD Order were revoked, and the nature of the subsidies.

Final Results of Sunset Review

Pursuant to sections 752(b)(1) and (3) of the Act, we determine that revocation of the CVD Order on MCBs from the PRC would be likely to lead to continuation or recurrence of a net countervailable subsidy at the rates listed below:

Manufacturers/exporters/producers | Net countervailable subsidy (percent)
RHI Refractories Liaoning Co., Ltd. (RHIL), RHI Refractories (Dalian) Co., Ltd. (RHID) and Liaoning RHI Jinding Magnesia Co., Ltd. (RHIJ) (collectively, RHI) | 24.24
Liaoning Mayerton Refractories (LMR) and Dalian Mayerton Refractories Co. Ltd. (DMR) (collectively, Mayerton) | 253.87
All Others | 24.24

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act and 19 CFR 351.218.

Dated: December 1, 2015.
Christian Marsh,
Deputy Assistant Secretary for Antidumping and Countervailing Duty Operations.

[FR Doc. 2015-30794 Filed 12-4-15; 8:45 am]

BILLING CODE 3510-DS-P